DEPARTMENT OF AGRICULTURE

Rural Utilities Service

Oglethorpe Power Corporation, Inc.: Notice of Intent To Hold Public Scoping Meetings and Prepare an Environmental Impact Statement

AGENCY: Rural Utilities Service, USDA.

ACTION: Notice of intent to hold public scoping meetings and prepare two Environmental Impact Statements (EIS).

SUMMARY: The Rural Utilities Service (RUS) intends to hold public scoping meetings and prepare an Environmental Impact Statement (EIS) to meet its responsibilities under the National Environmental Policy Act (NEPA) and 7 CFR Part 1794 in connection with potential impacts related to projects proposed by Oglethorpe Power Corporation (Oglethorpe) of Tucker, Georgia. The proposal consists of the construction of a 100-MW biomass power plant in Warren County near Warrenton, Georgia. Oglethorpe is requesting RUS to provide financial assistance for the proposed action.

DATES: RUS will conduct a public scoping meeting in an open house format in order to provide information and solicit comments for the preparation of the EIS. The public meeting will be held on Thursday, July 9, 2009 from 5:30-7:30 p.m. at the Warren County Community Service Building, 48 Warren Street, in Warrenton, Georgia 30828; telephone (706) 465-2171. All written questions and comments must be received by RUS by July 27, 2009.

ADDRESSES: To send comments or for further information, contact Stephanie Strength, Environmental Protection Specialist, USDA Rural Development Utilities Programs, at 1400 Independence Avenue, SW., Stop 1571, Washington, DC 20250-1571, or e-mail stephanie.strength@wdc.usda.gov.

An Alternatives Report (AR) prepared by Oglethorpe will be available at the public scoping meeting, at the Agency's address provided in this notice, at the Agency's Web site: http://www.usda.gov/rus/water/ees/eis.htm, at Oglethorpe Power Corporation, 2100 East Exchange Place, Tucker, Georgia, and at the following locations:

Appling County Public Library, 244 E. Parker Street, Baxley, GA 31513. Phone: (912) 367-8103.

Warren County Public Library, 10 Warren Street, Warrenton, GA 30828. Phone: (706) 465-2656.

SUPPLEMENTARY INFORMATION: Oglethorpe proposes to construct a new 100-MW biomass power plant in Warren County near Warrenton, Georgia. The proposal is to meet, in part, the future demand of Oglethorpe's Members to provide a reliable, long-term supply of renewable and sustainable energy. Oglethorpe is seeking financing from RUS for its investment. The proposal is classified in 7 CFR Part 1794.25 as requiring an EIS.

Prior to making a financial decision about whether to provide financial assistance for a proposal, RUS is required to conduct an environmental review under the NEPA in accordance with the Agency policies and procedures codified in 7 CFR Part 1794. These regulations require the Agency to consider engineering alternatives including no action, load management, conservation measures, and reactive power supply.

Government agencies, private organizations, and the public are invited to participate in the planning and analysis of the proposed projects. Representatives from the Agency and Oglethorpe will be available at the scoping meetings to discuss the environmental review process, describe the proposals, discuss the scope of environmental issues to be considered, answer questions, and accept comments. As part of its broad environmental review process, the Agency must take into account the effect of the proposal on historic properties in accordance with Section 106 of the National Historic Preservation Act and its implementing regulation, “Protection of Historic Properties” {36 CFR Part 800}. Pursuant to 36 CFR 800.2 (d)(3), the Agency is using its procedures for public involvement under NEPA to meet its responsibilities to solicit and consider the views of the public during Section 106 review. Accordingly, comments submitted in response to scoping will inform Agency decision making in Section 106 review. Any party wishing to participate more directly with the Agency as a “consulting party” in Section 106 review may submit a written request to do so to the Agency contact at the above address.

Using information from the Alternatives Report and considering input provided by government agencies, private organizations, and the public, RUS and Oglethorpe, in consultation with the cooperating agencies, will determine the scope of the EIS. Notices announcing the availability of the Draft EIS will be published in the Federal Register and local newspapers.

Any final action by the Agency related to the proposal will be subject to, contingent upon, and in compliance with environmental review requirements will be conducted as prescribed by the Agency's environmental policies and procedures (7 CFR Part 1794).

Dated: June 22, 2009.
James R. Newby,
Acting Administrator, USDA Rural Utilities Service.

[FR Doc. E9-15079 Filed 6-25-09; 8:45 am]

BILLING CODE P